DEPARTMENT OF THE INTERIOR

Fish and Wildlife Service

National Park Service

[NPS-ANRSS-17182; PPWONRADE2, PMP00EI05.YP0000]

North Cascades Ecosystem Grizzly Bear Restoration Plan/Environmental Impact Statement, Washington

AGENCY: Fish and Wildlife Service and National Park Service, Interior.

ACTION: Notice of intent.

SUMMARY: The National Park Service (NPS) and the Fish and Wildlife Service (FWS) are jointly preparing a North Cascades Ecosystem Grizzly Bear Restoration Plan and Environmental Impact Statement (Plan/EIS) to determine how to restore the grizzly bear to the North Cascades ecosystem (NCE), a portion of its historical range.

DATES: The FWS and NPS request that comments be submitted by March 23, 2015, or 15 days after the last public open house, whichever is later. Open houses will be announced in local media. For more information on submitting public comments, see How To Provide Comments, under Public Comment in the SUPPLEMENTARY INFORMATION section.

ADDRESSES: Information will be available for public review online at http://parkplanning.nps.gov/NCEG; in the Office of the Superintendent, 810 State Route 20, Sedro-Woolley, WA 98284 (360-854-7200, telephone); and in the Washington Fish and Wildlife Office, 510 Desmond Dr. SE., Suite 102, Lacey, WA 98503 (360-753-9440).

FOR FURTHER INFORMATION CONTACT: Denise Shultz, Public Information Officer, North Cascades National Park Service Complex, 810 State Route 20, Sedro-Woolley, WA 98284 (360-854-7302, telephone), or Brent Lawrence, Public Affairs Specialist, FWS Pacific Regional Office, 911 NE 11th Ave., Portland, OR 97232 (503-231-6211).

SUPPLEMENTARY INFORMATION: Pursuant to the National Environmental Policy Act of 1969, 42 U.S.C. 4332(2)(C) (NEPA), the National Park Service (NPS) and the Fish and Wildlife Service (FWS) are jointly preparing a North Cascades Ecosystem Grizzly Bear Restoration Plan and Environmental Impact Statement (Plan/EIS) to determine how to restore the grizzly bear (Ursus arctos horribilis) to the North Cascades ecosystem (NCE), a portion of its historical range.

Background

Situated in the core of the North Cascades Ecosystem (NCE), the North Cascades National Park Complex is surrounded by more than 2.6 million contiguous acres of federally designated wilderness, including protected lands and de facto wilderness in British Columbia, Canada. The United States portion of the NCE is contiguous with habitat north of the international border in British Columbia, Canada, but isolated from other grizzly bear populations in both the United States and Canada.

Research indicates that this wilderness landscape is capable of supporting a self-sustaining grizzly bear population. However, there has only been one observation of a solitary bear during the past 10 years. Given the low number of grizzly bears, very slow reproductive rate, and other recovery constraints, grizzly bears in the NCE are the most at-risk grizzly bear population in the United States today.

The FWS recently reaffirmed (78 FR 70104, November 22, 2013) that the NCE grizzly bear warrants uplisting from threatened to endangered under the Endangered Species Act (ESA, 16 U.S.C. 1531 et seq.). However, a change in listing status remains precluded by lack of funding and the Service's need to make listing determinations for other species not yet protected under the ESA. The main threat to grizzly bears in this recovery zone is a small population size, with resulting demographic and genetic risks. Natural recovery in the NCE is challenged by the absence of verified reproduction, as well as isolation from any contiguous population in British Columbia, Canada, and the United States.

A nationwide Grizzly Bear Recovery Plan was finalized by the FWS in 1982, and updated in 1993. The NCE recovery plan chapter was finalized in 1997. Current recovery efforts in the United States are focused on limiting human-caused mortality, protecting habitat by emphasizing no net loss of core habitat, providing information and education efforts regarding grizzly bears and their habitat, and enhancing sanitation by enforcing proper garbage and food storage in bear habitat. Education programs continue to inform people about grizzly bear biology and techniques to avoid conflicts when living or recreating in bear habitat.

Restoration Plan and Environmental Impact Statement Draft Purpose, Need, and Objectives

The NCE recovery plan chapter identifies four priority actions: (1) Develop a strategy for implementation of the NCE chapter; (2) develop an intensive ongoing educational program to provide information about grizzly bears and grizzly bear recovery to the public; (3) initiate the NEPA process; and (4) conduct an intensive research and monitoring effort to determine grizzly bear population size and distribution, habitat use, and home ranges in the NCE. In accordance with the NCE recovery plan chapter, the NPS and the FWS are initiating a NEPA planning process as joint lead agencies for grizzly bear restoration in the U.S. portion of the NCE. The Washington Department of Fish and Wildlife and the U.S. Department of Agriculture-Forest Service will serve as cooperating agencies. The following are the draft purpose, need, and objectives for the NCE Grizzly Bear Restoration Plan/EIS:

Purpose

The purpose of this Plan/EIS is to determine how to restore the grizzly bear to the North Cascades ecosystem (NCE), a portion of its historical range.

Need

Since the NCE grizzly bears are at risk of local extinction, action is needed at this time to:

• Avoid the permanent loss of grizzly bears in the NCE;

• Contribute to the restoration of biodiversity of the ecosystem for the benefit and enjoyment of present and future generations of people;

• Enhance the probability of long-term survival and conservation of grizzly bears within the lower 48 States and thereby contribute to overall grizzly bear recovery; and

• Support the eventual removal of the grizzly bear from the Federal List of Endangered and Threatened Wildlife.

Objectives

The objectives of this Plan/EIS are to:

• Restore a grizzly bear population as part of the natural and cultural heritage of the North Cascades.

• Provide Pacific Northwest residents and visitors with the opportunity to again experience grizzly bears in their native habitat.

• Seek to support Tribal cultural and spiritual values, as well as environmental and natural resource objectives related to the grizzly bear.

• Expand outreach efforts to inform and involve the public and build understanding about grizzly bear recovery.

Environmental Impact Statement Alternatives and Their Impacts

As part of the planning and EIS process, the NPS and FWS will evaluate various approaches for the restoration of a grizzly bear population to the NCE. Preliminary alternatives to be considered in the Plan/EIS include the no action alternative (passive restoration) as well as active restoration alternatives, including moving grizzly bears from other U.S. and/or Canadian populations into the NCE as either threatened or experimental 10(j) populations under the ESA.

The Plan/EIS will evaluate the effects of a range of alternatives, including potential impacts to: Rare or unusual vegetation, wildlife and habitat, soundscapes, wilderness (including a minimum requirements analysis), visitor use and experience, socioeconomics, human safety, and other resources.

Public Comment

How To Provide Comments

During the scoping period, public open houses will be held on both the east and west sides of the North Cascades Ecosystem to provide an opportunity for the public to share their comments and learn more about grizzly bear restoration. Details regarding the exact times and locations of these meetings will be announced on the project Web site (http://parkplanning.nps.gov/NCEG) and through local and regional media. The meetings will also be announced through email notification to individuals and organizations on the initial distribution list. Those wishing to be added to the project information distribution list should send an email request to NCE_grizzly@nps.gov.

If you wish to comment on the purpose, need, objectives, potential alternatives, or on any other issues associated with development of the draft Plan/EIS, you may submit your comments by any one of several methods. You may comment online at http://parkplanning.nps.gov/NCEG. You may also mail or hand deliver comments to the Superintendent, North Cascades National Park Service Complex, 810 State Route 20, Sedro-Woolley, WA 98284. Written comments will also be accepted at the public open houses. Comments will not be accepted by fax, email, or by any method other than those specified above. Bulk comments in any format (hard copy or electronic) submitted on behalf of others will not be accepted.

Public Availability of Comments

Before including your address, phone number, email address, or other personal identifying information in your comment, you should be aware that your entire comment—including your personal identifying information—may be made publicly available at any time. While you can ask us in your comment to withhold your personal identifying information from public review, we cannot guarantee that we will be able to do so.

Dated: February 6, 2015.
Robyn Thorson,
Regional Director, Pacific Region, Fish and Wildlife Service.
Dated: February 5, 2015.
Christine S. Lehnertz,
Regional Director, Pacific West Region, National Park Service.

[FR Doc. 2015-03504 Filed 2-18-15; 8:45 am]

BILLING CODE 4312-52-P